DEPARTMENT OF LABOR

Occupational Safety and Health Administration

[Docket No. ICR-1218-0216(2007)]

Aerial Lifts; Extension of the Office of Management and Budget's (OMB) Approval of Information Collection (Paperwork) Requirement

AGENCY: Occupational Safety and Health Administration (OSHA), Labor.

ACTION: Request for public comment.

SUMMARY: OSHA solicits public comment concerning its request for an extension of the information collection requirement contained in the Aerial Lifts Standard.

DATES: Comments must be submitted by the following dates:

Hard copy: Your comments must be submitted (postmarked or received) by December 26, 2006.

Facsimile and electronic transmission: Your comments must be received by December 26, 2006.

ADDRESSES: You may submit comments, identified by OSHA Docket No. ICR-1218-0216(2007), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer, including attachments, you may fax them to the OSHA Docket Office at (202) 693-1648.

Electronic: You may submit comments through Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Michael Buchet at the address below to obtain a copy of the ICR. For additional information on submitting comments, please see the “Public Participation” section in SUPPLEMENTARY INFORMATION.

FOR FURTHER INFORMATION CONTACT: Michael Buchet, Directorate of Construction, OSHA, U.S. Department of Labor, Room N3468, 200 Constitution Avenue, NW., Washington, DC 20210; telephone: (202) 693-2020.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate.

The Occupational Safety and Health Act of 1970 (the Act) (29 U.S.C. 651 et seq.) authorizes information collection by employers as necessary or appropriate for enforcement of the Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

Employers who modify an aerial lift for uses other than those provided by the manufacturer must obtain a certificate from the manufacturer or equivalent entity certifying that the modification is in conformance with applicable ANSI standards and this Standard, and the equipment is as safe as it was prior to the modification. The manufacturer's certification demonstrates to interested parties that the manufacturer or an equally qualified entity assessed a modified aerial lift and found that it was safe for use by, or near, employees, and would provide employees with a level of protection equivalent to the protection afforded by the lift prior to modification.

II. Special Issues for Comment

OSHA has a particular interest in comments on the following issues:

• Whether the proposed information collection requirement is necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting OMB to extend their approval of the collection of information requirement contained in the Aerial Lifts Standard. The Agency is requesting a nine hour decrease as a result of reestimating the number of inspections where employers will provide OSHA these certificates. The Agency will summarize the comments submitted in response to this notice, and will include this summary in its request to OMB.

Type of Review: Extension of currently approved information collection requirements.

Title: Manufacturer's Certification of Modifications Made to Construction Aerial Lifts (29 CFR 1926.453).

OMB Number: 1218-0216.

Affected Public: Business or other for-profit.

Number of Respondents: 62.

Frequency: On occasion.

Average Time Per Response: Six minutes (.06 hour).

Estimated Total Burden hours: 6 hours.

Estimated Cost (Operation and Maintenance): $0.

IV. Public Participation—Submission of Comments on this Notice and Internet Access to Comments and Submissions

You may submit comments and supporting materials in response to this notice by (1) Hard copy, (2) FAX transmission (facsimile), or (3) electronically through the OSHA Web page. Because of security-related problems, there may be a significant delay in the receipt of comments by regular mail. Please contact the OSHA Docket Office at (202) 693-2350 (TTY (877) 889-5627) for information about security procedures concerning the delivery of submissions by express delivery, hand delivery, and courier service.

All comments, submissions, and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Since all submissions become public, private information such as social security numbers should not be submitted.

V. Authority and Signature

Edwin G. Foulke, Jr., Assistant Secretary of Labor for Occupational Safety and Health, directed the preparation of this notice. The authority for this notice is the Paperwork Reduction Act of 1995 (44 U.S.C. 3506 et seq.) and Secretary of labor's Order No. 5-2002 (67 FR 65008).

Dated: Signed at Washington, DC, on October 20, 2006.
Edwin G. Foulke, Jr.,
Assistant Secretary of Labor.

[FR Doc. 06-8931 Filed 10-26-06; 8:45 am]

BILLING CODE 4510-26-M